NATIONAL SCIENCE FOUNDATION

Advisory Panel for Biological Infrastructure: Notice of Meeting

In accordance with the Federal Advisory Committee Act (Pub. L 92-463, as amended), the National Science Foundation announces the following meeting:

Name and Committee Code: Advisory Panel for Biological Infrastructure (#1215).

Date and Time: May 1-2, 2000, 8:30 a.m.-5:00 p.m.

Place: National Science Foundation at 4201 Wilson Blvd., Arlington, VA 22230, Rm. 360.

Type of Meeting: Closed.

Contact Person: Greg Farber and Mary Jane Saunders, Program Directors, Biological Instrumentation and Instrument Development, National Science Foundation, Rm. 615, 4201 Wilson Boulevard, Arlington, VA 22230. Telephone: (703) 306-1472.

Purpose of Meeting: To provide advice and recommendations concerning proposals submitted to NSF for financial support.

Agenda: To review and evaluate proposal for acquisition of Biological Instrumentation and Instrument Development for the Major Research Instrumentation (MRI) Program as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: March 16, 2000.
Karen J. York,
Committee Management Officer.

[FR Doc. 00-6937 Filed 3-20-00; 8:45 am]

BILLING CODE 7555-01-M